DEPARTMENT OF LABOR

Employment and Training Administration

Migrant and Seasonal Farmworkers (MSFWs) Monitoring Report and One-Stop Career Center Complaint/Referral Record: Comments

Agency: Employment and Training Administration, Labor.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed extension of the expiration date without revision for ETA Form 5148, Services to Migrant and Seasonal Farm Workers Report, and an extension with revision for ETA Form 8429, One-Stop Career Center Complaint/Referral Record, to March 1, 2015. The changes incorporated to ETA Form 8429 include the following: (1) In Part I, of item 8, increased the space provided for description of complaint, (2) in Part II, of items 2 and 3, added the word “Job Service,” and (3) Part II, item 9 at the bottom added “Complaint resolved? □ Yes □ No—If “No,” explain.”

The current Office of Management and Budget (OMB) Information Collection Request (ICR) authorization number 1205-0039 expires on February 29, 2012. A copy of the proposed ICR can be obtained by contacting the office listed below in the addressee section of this notice or by accessing: http://www.doleta.gov/OMBCN/OMBControlNumber.cfm.

DATES: Submit comments on or before December 2, 2011.

ADDRESSES: Send comments to: Kimberly Vitelli, U.S. Department of Labor, Employment and Training Administration, Office of Workforce Investment, 200 Constitution Avenue, NW., Room C-4510, Washington, DC 20210, telephone number: 202-693-3045, fax: 202-693-3015, and e-mail address: vitelli.kimberly@dol.gov.

FOR FURTHER INFORMATION CONTACT: Juan Regalado, U.S. Department of Labor, Employment and Training Administration, Office of Workforce Investment, Division of National Programs, Tools and Technical Assistance, Migrant and Seasonal Farmworkers Monitor Advocate, Room S-4209, 200 Constitution Avenue, NW., Washington, DC 20210, telephone number 202-693-2661, fax: 202-693-3945, and e-mail address: regalado.juan@dol.gov.

SUPPLEMENTARY INFORMATION:

I. Background

Wagner-Peyser regulations at 20 CFR 651, 653, and 658 set forth requirements to ensure that Migrant and Seasonal Farmworkers (MSFWs) receive services that are qualitatively equivalent and quantitatively proportionate to the services provided to non-MSFWs. In compliance with 20 CFR 653.109, the Department of Labor established record keeping requirements to allow for the efficient and effective monitoring of State Workforce Agencies' (SWA) regulatory compliance. The ETA Form 5148, Services to Migrant and Seasonal Farmworkers Report, is used to collect data which are primarily used to monitor and measure the extent and effectiveness of SWA service delivery to MSFWs. The ETA Form 8429, One-Stop Career Center Complaint/Referral Record, is used to collect and document complaints filed by MSFWs and non-MSFWs pursuant to the regulatory framework established at 20 CFR 658.400.

II. Desired Focus of Comments

Currently, ETA is soliciting comments concerning the proposed extension of the Services to Migrant and Seasonal Farm Workers Report, ETA Form 5148, and the One-Stop Career Center Complaint/Referral Record, ETA Form 8429 to March 1, 2015, which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond by including the use of appropriate automated, electronic, mechanical, or other technological collection techniques or other forms of information technology, e.g., permitting electronic submissions of responses.

A copy of the proposed Information Collection Request (ICR) can be obtained by contacting the office listed above in the addressee section of this notice.

III. Current Actions

Type of Review: Extension with revision of a currently approved collection.

Agency: Employment and Training Administration.

Title: Migrant and Seasonal Farmworker (MSFW) Monitoring Report and One-Stop Career Center Complaint/Referral Record.

OMB Number: 1205-0039.

Affected Public: State.

Type of Response: Mandatory.

Number of Respondents: (See Below).

Annual Responses: (See Below).

Breakdown of Burden Hours: (See Below).

Complaint Form 8429

1. Recordkeeping

Number of record keepers: 50 states.

Annual number of records: 3,000 (60 reports per state, 50 states × ports).

Annual hours per record keeper: .13 (8 minutes per report).

Total record-keeper hours: 400 (3,000 reports × 8 min. per report).

2. Processing

Annual average number of forms: 3,000.

Minutes per form: 120 (2 hrs.).

Total processing hours: 6,000 (3,000 reports at 2 hours each).

Estimated Total Burden Hours for ETA 8429: 6,400 − (400 + 6,000).

Comments: Not all complaints that are logged utilize the Employment Service Complaint/Referral Record, ETA Form 8429. The SWA's are only required to utilize this form for MSFW complaints and ES related complaints from non-MSFWs. Based upon contacts with those states with the highest level of reported complaint activity, we believe that approximately 3,000 complaints were captured on the ETA Forms 8429 in the previous program year.

5148 Report

1. Recordkeeping

Number of record-keepers: 50 states.

Annual number of records: 200 (record keepers = 50 × reports = 4 = 200).

Estimated hours per record-keeper: 1.16 (70 minutes per report).

Total Record-keeping hours: 233.3.

2. Compilation and Reporting

Number of Respondents: 50.

Annual number of reports: 4.

Total number of reports: 200.

Estimated minutes per report: 90 (1.5 hrs.).

Total Record-keeping hours: 300 (200 reports × 90 minutes = 18,000/60).

Estimated Total Burden Hours for ETA 5148: 533 (233 + 300).

Estimated Total Burden Cost: $172,211:

| Total annual hours | One FTE | FTE | Annual salary | Total burden cost
SMA—5148 | 533 | 1,920 | 0.28 | $65,000 | $18,044
Local OSC—8429 | 6,000 | 1,920 | 3.13 | 45,000 | 140,625
SMA—8429 | 400 | 1,920 | 0.21 | 65,000 | 13,542
Total Burden Cost for 8429 & 5148 |  |  |  |  | 172,211

A local One-Stop Center Record Keeper average annual salary is $45,000 and for the State Monitor Advocate (SMA) is $65,000 for Record Keeping, Processing, Compilation and Reporting on ETA 8429 and ETA 5148 respectively.

Hours per day | Working days | Monthly hours | Months in year | Hours per year
8 | 20 | 160 | 12 | 1,920

Comments: The calculations are based on a normal work week for most jobs are 8 hours a day for 5 days.

There are 52 weeks in a year but most workers get a two week vacation. So, 8 × 5 × 50 = 2000 hours worked in a year.

Many companies also give 10 holidays, which brings it down to: 8 × 5 × 48 = 1920.

Also the calculations are based on the average median salary of one local one-stop center record keeper's of $45,000 per year and the average median salary of a State Monitor Advocate of $65,000 per year, and the estimated hours expended in record keeping and processing on ETA Form 8429 and ETA Form 5148 respectively, providing the grand total of burden cost reflected above.

Comments submitted in response to this notice will be summarized and/or included in the request for Office of Management and Budget approval of the information collection request; they will also become a matter of public record.

Dated: Washington, DC, this 21st day of September, 2011.
Jane Oates,
Assistant Secretary, Employment and Training Administration.

[FR Doc. 2011-25388 Filed 9-30-11; 8:45 am]

BILLING CODE 4510-FN-P